NUCLEAR REGULATORY COMMISSION

[NRC-2014-0212]

Oversight of Counterfeit, Fraudulent, and Suspect Items in the Nuclear Industry

AGENCY: Nuclear Regulatory Commission.

ACTION: Draft regulatory issue summary; public meeting and request for comment.

SUMMARY: The U.S. Nuclear Regulatory Commission (NRC) is seeking public comment on draft regulatory issue summary (RIS) 2014-XX. This draft RIS, if finalized, is intended to heighten awareness of existing NRC's regulations and reiterate how they apply to the nuclear industry stakeholders' oversight of counterfeit, fraudulent, and suspect items (CFSI) to all NRC's licensees and certificate holders, Agreement State radiation control program directors, state liason officers, contractors and vendors.

DATES: Submit comments by November 3, 2014. Comments received after this date will be considered if it is practical to do so, but the NRC is able to assure consideration only for comments received on or before this date.

ADDRESSES: You may submit comment by any of the following methods (unless this document describes a different method for submitting comments on a specific subject):

• Federal Rulemaking Web site: Go to http://www.regulations.gov and search for Docket ID NRC-2014-0212. Address questions about NRC dockets to Carol Gallagher; telephone: 301-287-3422; email: Carol.Gallagher@nrc.gov. For technical questions, contact the individual(s) listed in the FOR FURTHER INFORMATION CONTACT section of this document.

• Mail comments to: Cindy Bladey, Office of Administration, Mail Stop: 3WFN, 06-44M, U.S. Nuclear Regulatory Commission, Washington, DC 20555-0001.

For additional direction on accessing information and submitting comments, see “Obtaining Information and Submitting Comments” in the SUPPLEMENTARY INFORMATION section of this document.

FOR FURTHER INFORMATION CONTACT: Tanya Mensah, Office of Nuclear Reactor Regulation, telephone: 301-415-3610, email: Tanya.Mensah@nrc.gov; or James Gaslevic, Office of New Reactors, telephone: 301-415-2776, email: James.Gaslevic@nrc.gov, both are staff of the U.S. Nuclear Regulatory Commission, Washington, DC 20555-0001.

SUPPLEMENTARY INFORMATION:

I. Obtaining Information and Submitting Comments

A. Obtaining Information

Please refer to Docket ID NRC-2014-0212 when contacting the NRC about the availability of information for this action. You may obtain publicly-available information related to this action by any of the following methods:

• Federal Rulemaking Web site: Go to http://www.regulations.gov and search for Docket ID NRC-2014-0212.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2014-0212 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC issues RISs to communicate with stakeholders on a broad range of regulatory matters. This may include communicating staff technical positions on matters that have not been communicated to or are not broadly understood by the nuclear industry.

The NRC staff has developed draft RIS 2014-XX, “Oversight of Counterfeit, Fraudulent, and Suspect Items in the Nuclear Industry,” to heighten awareness of the existing NRC regulations and how they apply to the nuclear stakeholders' oversight of CFSI. The NRC assessment is that the regulatory provisions identified and discussed in the draft RIS: (i) Provide sufficient authority for the NRC to take regulatory action addressing CFSI issues within the scope of the NRC's regulatory authority and jurisdiction; and (ii) are sufficiently clear and comprehensive to alert regulated entities with respect to their responsibilities and obligations with respect to CFSI as established under those NRC regulatory provisions. The NRC requests comments on the NRC's assessment. If commenters disagree with the NRC's assessment, then the NRC requests that commenters identify the specific matter or area in which the NRC's regulatory infrastructure is deficient or incomplete, and how the NRC could address or rectify the deficiency or incompleteness. Comments identifying needed changes would be most helpful if they describe the entities involved, the specific matter, situation or deficiency in the NRC's infrastructure, and a description of the proposed activity or regulatory prohibition needed to successfully address the matter, situation or deficiency.

The RIS, if issued in final form, may be used by all NRC's licensees and certificate holders, Agreement State radiation control program directors, state liason officers, contractors and vendors. The draft RIS explains that these entities may review this information and consider actions, as appropriate, to prevent CFSI from entering their supply chains, prevent possible installation or use of CFSI at their facilities, and raise awareness of the potential for CFSI to be used in the manufacture of items, including sealed sources and devices. The draft RIS is available electronically in ADAMS under Accession No. ML14192B407.

Public Meeting

The NRC plans to hold a public meeting to discuss the draft RIS and the issues associated with CFSI. The NRC will consider oral comments made in developing the final RIS, but the NRC will not prepare formal written comment responses to oral comments made at the public meeting. You may submit written comments either electronically or in writing, as described in the ADDRESSES section of this document. Additional details regarding the meeting will be posted at least 10 days prior to the public meeting on the NRC's Public Meeting Schedule Web site at http://www.nrc.gov/public-involve/public-meetings/index.cfm.

Dated at Rockville, Maryland, this 25th day of September 2014.
For the Nuclear Regulatory Commission.
Sheldon D. Stuchell,
Chief, Generic Communications Branch, Division of Policy and Rulemaking, Office of Nuclear Reactor Regulation.

[FR Doc. 2014-23509 Filed 10-1-14; 8:45 am]

BILLING CODE 7590-01-P